GENERAL SERVICES ADMINISTRATION

Privacy Act of 1974; Privacy Act System of Records

AGENCY: General Services Administration.

ACTION: Notice of proposed system of records.

SUMMARY: The General Services Administration (GSA), Public Buildings Service (PBS) proposes to establish a system of records subject to the Privacy Act of 1974, 5 U.S.C. 552a. The system of records, Electronic Acquisition System (EAS) (GSA/PBS-6), is an electronic procurement system designed to support nationwide PBS acquisition contract preparation, tracking, and reporting. The system ensures that the PBS contracting staff prepares, assembles, and maintains information necessary for efficient and cost effective operation, control, and management of Federal contracting by PBS. The system may include personal information of individuals who engage in contracting activities with PBS.

DATES: The system of records will become effective on June 11, 2007 unless comments received on or before that date result in a contrary determination.

ADDRESSES: Comments should be directed to the EAS Program Manager, Systems Development Division (PGAB), Office of the PBS Chief Information Officer, General Services Administration, 1800 F Street NW., Washington DC 20405.

FOR FURTHER INFORMATION CONTACT: GSA Privacy Act Officer (CIB), General Services Administration, 1800 F Street NW, Washington, DC 20405; telephone (202) 208-1317.

Dated: May 1, 2007.
Cheryl M. Paige,
Acting Director, Office of Information Management.

GSA/PBS-6

System name:

Electronic Acquisition System (EAS).

System location:

The system records and documents are maintained at the Enterprise Service Center of the GSA Public Buildings Service (PBS). Contact the EAS System Manager for additional information.

Categories of individuals covered by the system:

The system maintains information on individuals, as well as businesses, who have made an offer or provided a quote in response to a PBS solicitation or who have entered into a contract with PBS.

Categories of records in the system:

The system maintains information required throughout the lifecycle of a PBS contract action including information about contracts, proposals and bids, and vendors. The Central Contractor Registry, a Federal government computer system maintained by the Department of Defense, is the sole source for vendor information in EAS. All information received from CCR is originally submitted by the vendor to CCR. In addition to business contact and identification information (address, telephone number, and Taxpayer Identification Number (TIN)), the system includes personal information on individuals who use personal contact and identification information (home address, telephone, e-mail, and fax numbers, and Social Security Number) for business purposes as sole proprietors.

Authorities for maintenance of the system:

Office of Federal Procurement Policy Act of 1974 (Pub. L. 93-400), as amended by Pub. L. 96-83, Federal Acquisition Regulation (FAR), General Services Administration Acquisition Manual (GSAM), GSA Order PBS 2120.1.

Purpose:

To provide and maintain a system supporting PBS acquisition contract preparation, workflow activities, tracking, and reporting. The system ensures that the PBS staff prepares, assembles, and maintains information necessary for compliance with FAR and GSAM contracting requirements.

Routine uses of the system records, including categories of users and their purpose for using the system:

System information may be accessed and used by authorized GSA employees and contractors to conduct official duties associated with Federal acquisition. Information from this system may be disclosed as a routine use:

a. In any legal proceeding, where pertinent, to which GSA is a party before a court or administrative body.

b. To a Federal, State, local, or foreign agency responsible for investigating, prosecuting, enforcing, or carrying out a statute, rule, regulation, or order when GSA becomes aware of a violation or potential violation of civil or criminal law or regulation.

c. To duly authorized officials engaged in investigating or settling a grievance, complaint, or appeal filed by an individual who is the subject of the record.

d. To the Office of Personnel Management (OPM), the Office of Management and Budget (OMB), the Government Accountability Office (GAO) or other Federal agency when the information is required for program evaluation purposes.

e. To another Federal agency in connection with the hiring or retention of an employee; the issuance of a security clearance; the reporting of an investigation; clarifying a job; the letting of a contract; or the issuance of a grant, license, or other benefit to the extent that the information is relevant and necessary to a decision.

f. To a Member of Congress or his or her staff on behalf of and at the request of the individual who is the subject of the record.

g. To an expert, consultant, or contractor of GSA in the performance of a Federal duty to which the information is relevant.

h. To the National Archives and Records Administration (NARA) for records management purposes.

Policies and practices for storing, retrieving, accessing, retaining, and disposing of system records:

Storage:

System records and documents are electronically stored on servers, tape backups, and/or compact discs.

Retrievability:

Records may be retrieved by name and/or other personal identifier or appropriate type of designation.

Safeguards:

System records are safeguarded in accordance with the requirements of the Privacy Act, the Computer Security Act, and the EAS System Security Plan. Technical, administrative, and personnel security measures are implemented to ensure confidentiality and integrity of the data. Security measures include password protections, assigned roles, and transaction tracking.

Retention and disposal:

Disposition of records will be according to the National Archives and Records Administration (NARA) guidelines, set forth in the GSA Records Maintenance and Disposition System (OAD P 1820.2A) handbook.

System manager and address:

EAS Program Manager, Systems Development Division (PGAB), Office of the PBS Chief Information Officer, General Services Administration, 1800 F Street NW, Washington DC 20405.

Notification procedure:

Individuals may obtain information about their records from the EAS Program Manager at the above address.

Record access procedures:

Requests from individuals for access to their records should be addressed to the EAS Program Manager. GSA rules for individuals requesting access to their records are published in 41 CFR part 105-64.

Contesting record procedures:

Individuals must contest their record's source data and appeal determinations for correction at the Central Contractor Registry according to CCR rules. Individuals may contest their GSA records' contents and appeal determinations according to GSA rules published in 41 CFR part 105-64.

Record source categories:

Information is obtained from the Central Contractor Registry for registered and matched vendors who are offerors or winners of GSA PBS contract actions.

[FR Doc. E7-8947 Filed 5-9-07; 8:45 am]

BILLING CODE 6820-34-S